DEPARTMENT OF COMMERCE

National Oceanic and Atmospheric Administration

RIN 0648-XC72

Marine Mammals; File No. 881-1758

AGENCY: National Marine Fisheries Service (NMFS), National Oceanic and Atmospheric Administration (NOAA), Commerce.

ACTION: Notice; receipt of application for amendment.

SUMMARY: Notice is hereby given that Alaska SeaLife Center (ASLC), 301 Railway Avenue, Seward, AK 99664 (Tylan Schrock, Responsible Party) has requested an amendment to scientific research Permit No. 881-1758.

DATES: Written, telefaxed, or e-mail comments must be received on or before October 22, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 881-1758.

FOR FURTHER INFORMATION CONTACT: Amy Sloan or Jennifer Skidmore, (301)713-2289.

SUPPLEMENTARY INFORMATION: The subject amendment to Permit No. 881-1745, issued on May 10, 2005 (70 FR28910), is requested under the authority of the Marine Mammal Protection Act of 1972, as amended (16 U.S.C. 1361 et seq.), and the regulations governing the taking and importing of marine mammals (50 CFR part 216).

Permit No. 881-1758 authorizes the permit holder to study growth, development, and health of harbor seals (Phoca vitulina) in the ASLC Rehabilitation Program. In addition to conducting standard rehabilitation practices, researchers collect blood, fecal, and urine samples; collect body composition measurements using bioelectrical impedance and deuterium oxide, sodium bromide, Evan's blue dye, and nitrogen administration followed by post-administration blood samples; conduct assimilation efficiency experiments to study metabolic development; and collect blubber biopsies to study fatty acid composition and contaminant loads. The permit expires on May 31, 2010.

The permit holder requests authorization to add ringed (Phoca hispida), spotted (Phoca largha), ribbon (Phoca fasciata), and bearded (Erignathus barbatus) seals undergoing rehabilitation at the ASLC to the permit for the same studies currently permitted on harbor seals. Up to 25 individuals of each species requested may have the above procedures performed through the duration of the permit. The applicant also proposes changes to protocols including removing bioelectrical impedance measurements and adding blubber ultrasound measurements for body condition assessment; and adding resting metabolic measurements to aid in the understanding of metabolic changes associated with health, growth, and dietary transitions.

Concurrent with the publication of this notice in the Federal Register, NMFS is forwarding copies of this application to the Marine Mammal Commission and its Committee of Scientific Advisors.

Dated: September 14, 2007
P. Michael Payne,
Chief, Permits, Conservation and Education Division, Office of Protected Resources, National Marine Fisheries Service.

[FR Doc. E7-18593 Filed 9-20-07; 8:45 am]

BILLING CODE 3510-22-S